DEPARTMENT OF THE INTERIOR

Bureau of Land Management

[CO-500-2824-DD]

Notice of Intent To Prepare a Fire and Fuels Management Plan and Amend the San Luis Resource Management Plan

AGENCY: Bureau of Land Management (BLM), Interior.

ACTION: Notice of Intent To prepare a Fire and Fuels Management Plan Amendment and an Environmental Assessment (EA) for the San Luis Resource Management Plan (RMP).

SUMMARY: This document provides notice that BLM intends to prepare a Fire and Fuels Management Plan Amendment, with an associated EA, for the San Luis Valley. The Del Norte, La Jara, and Saguache Field Offices administer approximately 530,000 acres of public lands in Alamosa, Conejos, Rio Grande, and Saguache Counties in south-central Colorado. The BLM will work closely with interested parties to identify the management decisions that are best suited to the needs of the public. This collaborative process will take into account local, regional, and national needs and concerns. This notice initiates public review of the proposed issues to be addressed and the planning criteria.

DATES: The review period will last 45 days from the publication of this notice. To be most useful, comments should be received on or before the end of the review period at the addresses listed below. To ensure local community participation and input, public workshops will be held during the review period in Alamosa and Saguache. Specific dates and locations for public participation will be published in local papers and broadcast on local community calendars at a later date.

ADDRESSES: If you wish to comment, request additional information, or request to be put on the mailing list, you may do so by any of several methods. You may mail, hand deliver, or call your comments or requests to: Tom Goodwin, Field Manager, Saguache Field Office, 46525 Highway 114, PO Box 67, Saguache, CO 81149, (719) 655-2547; or Neal Beetch, Project Manager, La Jara Field Office, 15571 County Road T5, La Jara, CO 81140, (719) 274-6301. You may also comment via email to: rgfo_comments@blm.gov. Please submit email comments avoiding the use of special characters and any form of encryption. Please include your name and address in your email message.

Comments, including names and street addresses of respondents, will be available for public review at the BLM offices listed above during regular business hours. Individual respondents may request confidentiality. If you wish to withhold your name and/or street address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

FOR FURTHER INFORMATION CONTACT: Tom Goodwin, Field Manager, or Neal Beetch, Project Manager at the addresses or phone numbers listed above.

SUPPLEMENTARY INFORMATION: The proposed plan amendment will: establish resource area-wide objectives for fire and fuels; delineate fire management areas; identify broad vegetation treatments; and identify general restrictions on fire management practices. BLM has identified general issues anticipated for this planning effort, including: protection of human life; protection of property; protection of natural/cultural resources; integration of fire and resource management; air quality; and wildlife habitat. These issues, along with others that may be identified through public participation, will be considered during the planning process. BLM has also identified preliminary planning criteria to guide the planning process, including compliance with all legal mandates of the Federal Land Policy and Management Act of 1976 (FLPMA), the National Environmental Policy Act of 1969 (NEPA), the Federal Advisory Committee Act, the Administrative Procedures Act, and the BLM planning regulations in 43 CFR part 1600, as well as consistency with fire plans of other agencies and State and local jurisdictions.

Existing information will be used to develop the plan amendment and EA. Selectable alternatives must contribute to the achievement of public land health standards and to the protection of communities at risk from catastrophic wildfire.

The planning process will utilize a collaborative approach. This will allow the public, tribes, State and Federal agencies, local elected officials, and BLM specialists to participate in identifying issues and developing and analyzing alternatives. In addition to the initial public comment period and workshops, the public will also be invited, through a Federal Register notice, local newspapers, and mailings, to review the proposed plan and provide comments. The Governor of Colorado, County Commissioners for Alamosa, Conejos, Rio Grande, and Saguache counties, and potentially affected members of the public will be notified of all meetings and comment periods. Agency representatives and interested persons are invited to visit with BLM officials at any time during the planning process.

Roy L. Masinton,
Front Range Center Manager.

[FR Doc. 02-11436 Filed 5-7-02; 8:45 am]

BILLING CODE 4310-JB-P